DEPARTMENT OF VETERANS AFFAIRS

Advisory Committee: National Academic Affiliations Council; Notice of Meeting

The Department of Veterans Affairs (VA) gives notice under Public Law 92-463 (Federal Advisory Committee Act) that a meeting of the National Academic Affiliations Council will be held via conference call on January 6, 2015, from 2:00 p.m. to 4:00 p.m. EST. The purpose of the Council is to advise the Secretary on matters affecting partnerships between VA and its academic affiliates. The Council will discuss the status of the Veterans Access, Choice, and Accountability Act of 2014's Graduate Medical Education Expansion Plan and receive an update from the Council's fall meeting recommendations. The Council will receive public comments from 3:45 p.m. to 4:00 p.m. EST.

Interested persons may attend and/or present oral statements to the Council. The dial in number to attend the conference call is: 1-800-767-1750. At the prompt, enter access code 02939 then press #. Individuals seeking to present oral statements are invited to submit a 1-2 page summary of their comments at the time of the meeting for inclusion in the official meeting record. Oral presentations will be limited to five minutes or less, depending on the number of participants. Interested parties may also provide written comments for review by the Council prior to the meeting or at any time, via email to, William.Marks@va.gov, or by mail to William J. Marks M.D., MS-HCM, Chief of Health Professions Education, Office of Academic Affiliations (10A2D), 810 Vermont Avenue NW., Washington, DC 20420. Any member of the public wishing to attend or seeking additional information should contact Dr. Marks via email or by phone at (415) 750-2100.

Dated: December 4, 2014.
Rebecca Schiller,
Federal Advisory Committee Management Officer.

[FR Doc. 2014-28786 Filed 12-8-14; 8:45 am]

BILLING CODE 8320-01-P